DEPARTMENT OF JUSTICE

Antitrust Division

Notice Pursuant to the National Cooperative Research and Production Act of 1993—Enterprise Computer Telephony Forum

Notice is hereby given that, on May 15, 2001, pursuant to Section 6(a) of the National Cooperative Research and Production Act of 1993, 15 U.S.C. 4301 et seq. (“the Act”), Enterprise Computer Telephony Forum (“ECTF”) has filed written notifications simultaneously with the Attorney General and the Federal Trade Commission disclosing changes in its membership status. The notifications were filed for the purpose of extending the Act's provisions limiting the recovery of antitrust plaintiffs to actual damages under specified circumstances. Specifically, Digital Wave Inc., Seoul, Republic of Korea; Elix, Montreal, Quebec, Canada; Commetrex Corp., Norcross, GA; AGT International, Columbus, OH; Amcat, Edmond, OK; and Webversa Inc., Fairfax, VA have been added as parties to this venture.

Also, AT&T, Redmond, WA; CallScan, West Midlands, England, United Kingdom; Compag Computer Corporation, Colorado Springs, CO; Cyberlog International, San Antonio, TX; Digi International, Minneapolis, MN; Ericsson, Richardson, TX; ESI, Plano, TX; Fujitusu, Anaheim, CA; IBM Corporation, Triangle, NC; Lernout & Hauspie Speech Products, Ieper, Belgium; Locus Dialogue, Montreal, Quebec, Canada; NOVVOX AG, Auerich, Switzerland; Nuance Communications, Menlo Park, CA; Philips Business Communications, Aachen, Germany; Rockwell Electronic Commerce, Dallas, TX; SpeechWorks, Boston, MA; StarBridge Technologies, Inc., Marborough, MA; Sun Microsystems, Chelmsford, MA; Telesoft Design Inc.; Dorset, England, United Kingdom; Unisys, New Britain, PA; Alcatel, Plano, TX; Audiocodes, Hooksett, NH; Authentix, Tucson, AZ; Bank of America, Charlotte, NC; Blue Wave Systems, Loughborough, England, United Kingdom; Call Sciences, Inc., Edison, NJ; Centigram Communications, San Jose, CA; Comsys International, Zeist, The Netherlands; Comuniq ASA, Sela, Norway; Connect It Communication BV, Wert, The Netherlands; CSC Ploenzke AG, Wiesbanden, Germany; Datakinetics, Fodingbridge, Hampshire, England, United Kingdom; Dragon Systems; Gloucestershire, England, United Kingdom; EICON Technology Corp., Montreal, Quebec, Canada; Elbit Systems, Ltd., Haifa, Israel; EteX-Sprachsynthese, Frankfort, Germany; Excelerant Software Services, Hertfordshire, England, United Kingdom; General Dynamics Government Systems, Tampa, FL; Immisch, Becker & Partner, Hamburg, Germany; Inter-Tel, Phoenix, AZ; Intergen Group, Ltd, Atlanta, GA; Integrated Device Technology, Inc., Santa Clara, CA; Intervoice, Dallas, TX; ITRI, Chu Tung, Hsin Chu, Taiwan; Katrel Elektronik SA, Ankara, Turkey; LASAT Networks, Bagsvaerd, Denmark; Megellan Network Systems, Sunnyvale, CA; Necsy S.p.A., Padova, ITALY; Netergy Networks, Santa Clara, CA; NetPhone, Marlborough, MA; Oki Electric Industry, Takasaki-shi, Gunma-k, Japan; RadiSys Corporation, Houston, TX; Sail Labs GesmbH, Vienna, Austria; Smart Home, Tefen Tower, Israel; TeleDirect International, Davenport, IA; TEMIC, Stuttgart, Germany; Voice Technologies Group, Getzelle, NY; and West Interative, Omaha, NE have been dropped as parties to this venture.

No other changes have been made in either the membership or planning activity of the group research project. Membership in this group research project remains open, and ECTF intends to file additional written notifications disclosing all changes in membership.

On February 20, 1996, ECTF filed its original notification pursuant to Section 6(a) of the Act. The Department of Justice published a notice in the Federal Register pursuant to Section 6(b) of the Act on May 13, 1996 (61 FR 22074).

The last notification was filed with the Department on December 15, 2000. A notice was published in the Federal Register pursuant to Section 6(b) of the Act on April 5, 2001 (66 FR 18111).

Constance K. Robinson,
Director of Operations Antitrust Division.

[FR Doc. 01-16143 Filed 6-26-01; 8:45 am]

BILLING CODE 4410-11-M